DEPARTMENT OF ENERGY

Federal Energy Regulatory Commission

[Project No. 2629-014]

Village of Morrisville, Vermont; Notice of Settlement Agreement and Soliciting Comments

Take notice that the following settlement agreement has been filed with the Commission and is available for public inspection.

a. Type of Application: Settlement Agreement.

b. Project No.: 2629-014.

c. Date Filed: February 13, 2026.

d. Applicant: Village of Morrisville, Vermont (Village).

e. Name of Project: Morrisville Hydroelectric Project.

f. Location: The project is located on the Green River, Elmore Pond Brook, and Lamoille River in Lamoille County, Vermont.

g. Filed Pursuant to: Rule 602 of the Commission's Rules of Practice and Procedure, 18 CFR 385.602.

h. Applicant Contact: Scott Johnstone, Village Manager, 857 Elmore Street, Morrisville, Vermont 05661; telephone at (802) 888-6289; email at sjohnsontone@mwlvt.com.

i. FERC Contact: Nicholas Ettema, Project Coordinator, Great Lakes Branch, Division of Hydropower Licensing; telephone at (312) 596-4447; email at nicholas.ettema@ferc.gov.

j. Deadline for filing comments: March 23, 2026, by 5:00 p.m. Eastern Time. Reply comments due: April 6, 2026, by 5:00 p.m. Eastern Time.

The Commission strongly encourages electronic filing. Please file comments using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Morrisville Hydroelectric Project (P-2629-014).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The Village filed a Settlement Agreement for the project's relicense proceeding, on behalf of itself, the Vermont Agency of Natural Resources, the Vermont Natural Resources Council, American Whitewater, and the Vermont Council of Trout Unlimited. The purpose of the Settlement Agreement is to resolve, between the signatories, relicensing issues related to the Village's compliance with the State of Vermont's August 9, 2016 water quality certification for the project and whitewater flow releases from the project's Green River Development. The Village, on behalf of the signatories, requests that any new license issued by the Commission contain conditions consistent with the provisions of the Settlement Agreement.

l. A copy of the Settlement Agreement is available for review on the Commission's website at http://www.ferc.gov using the “eLibrary” link. Enter the docket number, excluding the last three digits in the docket number field, to access the document (i.e., P-2629). For assistance, contact FERC at FERCOnlineSupport@ferc.gov or call toll free, (886) 208-3676 or TTY (202) 502-8659.

You may also register online at https://www.ferc.gov/ferc-online/overview to be notified via email of new filings and issuances related to this or other pending projects. For assistance, contact FERC Online Support.

m. For public inquiries and assistance with making filings such as interventions, comments, or requests for rehearing, contact the Office of Public Participation at (202) 502-6595 or OPP@ferc.gov.

(Authority: 18 CFR 2.1)

Dated: February 19, 2026.
Debbie-Anne A. Reese,
Secretary.

[FR Doc. 2026-03665 Filed 2-23-26; 8:45 am]

BILLING CODE 6717-01-P